DEPARTMENT OF HEALTH AND HUMAN SERVICES

National Institutes of Health

Statement of Organization, Functions, and Delegations of Authority

Part N, National Institutes of Health, of the Statement of Organization, Functions, and Delegations of Authority for the Department of Health and Human Services (40 FR 22859, May 27, 1975, as amended most recently at 64 FR 49018, September 9, 1999, and redesignated from Part NH as Part N at 60 FR 56606, November 9, 1995), is amended as set forth below to reflect the establishment of the Office of Bioengineering and Bioimaging in the Office of the Director, National Institutes of Health.

Section N-B, Organization and Functions, is amended as follows: (1) After the heading Executive Office (NAR, formerly HNAR), insert the following:

Office of Bioengineering and Bioimaging (NAC, formerly HNAC). (1) Increases biological knowledge and facilities development of novel methods, devices, and pharmaceuticals through the use of engineering, physical, and computational science principles and techniques; (2) coordinates and provides a focus for biomedical engineering, bioimaging, and bioinformatics issues among the institutes and centers at the NIH and with other Federal agencies; (3) conducts activities aimed at fostering new basic understandings and collaborations among the biological, medical, engineering, physical, and computational sciences; (4) coordinates trans-NIH bioengineering, bioimaging, and bioinformatics research programs; (5) develops transdisciplinary training and career development opportunities between the engineering/physical/computational science and biomedical communities; and (6) conducts symposia and technical meetings to facilitate communication and dissemination of information among different technical disciplines.

Dated: April 5, 2000.
Ruth Kirschstein,
Acting Director, National Institutes of Health.

[FR Doc. 00-9431 Filed 4-14-00; 8:45 am]

BILLING CODE 4140-01-M